UNIFIED CARRIER REGISTRATION PLAN

Sunshine Act Meeting; Unified Carrier Registration Plan Board of Directors Meeting

TIME AND DATE: December 10, 2020, from Noon to 3:00 p.m., Eastern time.

PLACE: This meeting will be accessible via conference call and screen sharing. Any interested person may call 877-853-5247 (US toll free), 888-788-0099 (US toll free), +1 929-205-6099 (US toll), or +1 669-900-6833 (US toll), Conference ID 977 6073 0690, to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

Agenda will be reviewed and the Board will consider adoption.

Ground Rules

➢ Board actions taken only in designated areas on agenda

IV. Approval of Minutes of the November 5, 2020 UCR Board Meeting—UCR Board Chair

For Discussion and Possible Action

Draft Minutes of the November 5, 2020 UCR Board meeting will be reviewed. The Board will consider action to approve.

V. Report of FMCSA—FMCSA Representative

The Federal Motor Carrier Safety Administration (FMCSA) will provide a report on any relevant activity.

VI. Updates Concerning UCR Legislation—UCR Board Chair

The UCR Board Chair will call for any updates regarding UCR legislation since the last Board meeting.

VII. Discussion Regarding Development of Board Policy for the Mailing of Postcards—UCR Executive Director

For Discussion and Possible Action

The UCR Executive Director will lead a discussion regarding the need for states and the Board to mail postcards to unregistered carriers. Items to consider may include defining the window of time for states/Board to mail postcards and require states to participate in solicitation campaigns. After discussing options, the Board may decide to adopt a policy regarding the requirements for mailing postcards to unregistered carriers.

VIII. Potential Contract Extensions for AAG3 LLC and DSL Transportation Services, Inc.—UCR Board Chair

For Discussion and Possible Action

The UCR Chair will lead a discussion of the annual renewal of existing contracts with AAG3 LLC (Avelino Gutierrez) and DSL Transportation Services, Inc. (Dave Lazarides). The Board may decide to renew the contracts for an additional one-year term.

IX. Chief Legal Officer Report—UCR Chief Legal Officer

The UCR Chief Legal Officer will provide an update on the status of the March 2019 data event, the Twelve Percent Logistics litigation, several cease and desist letters sent to third party permitting service providers, and other matters.

X. Update on the RSM Security Assessment Pertaining to the NRS Audit—UCR Technology Director

The UCR Technology Director will provide an update on the security assessment deliverables from RSM's security team pertaining to the NRS Audit.

• AWS Security Assessment

• Cloud Vulnerability and Configuration Review Sample

• RSM Sample Penetration Testing Report

XI. Subcommittee Reports

Audit Subcommittee—UCR Audit Subcommittee Chair

A. Next Steps Regarding the 2019 Audit Deficiencies by Idaho and Utah—UCR Audit Subcommittee Chair

For Discussion and Possible Action

The UCR Audit Subcommittee Chair will discuss the next steps regarding the 2019 Audit Deficiencies by Idaho and Utah. The Board may authorize additional action to be taken against Idaho and Utah.

B. Consideration of the Addition of a UCR Auditor/Enforcement Manager—UCR Audit Subcommittee Chair

For Discussion and Possible Action

The UCR Audit Subcommittee Chair will lead a discussion considering the potential addition of a UCR Auditor/Enforcement Manager to provide mentoring and other audit assistance to participating states. The Board may take action to add a UCR Auditor/Enforcement Manager and include that position in the budget for fiscal year 2021.

C. Discuss the Possible Requirement for the States to Declare in Writing Their Audit Policy with Respect to UCR—UCR Audit Subcommittee Chair

The UCR Audit Subcommittee Chair will lead a discussion of the possibility of requiring the states to formally declare, in writing, certain goals, objectives, and procedures with regard to their UCR audit policy. In addition, the Board may discuss a desire to maintain a system to better monitor state(s) when turnover in staff leads to UCR audit and enforcement deficiencies.

D. Independent Auditor's Final Report (2017-2018)—UCR Depository Manager

The UCR Depository Manager will discuss the outcome of the financial statement audits of the Depository for each of the 12- month periods ended December 31, 2018 and 2017.

E. Consideration of an Audit Contract of the NRS by RSM—UCR Executive Director

For Discussion and Possible Action

The UCR Executive Director will lead a discussion around the consideration and possible approval of an audit contract of the NRS by RSM. The Board may approve an audit contract between the Board and RSM.

F. FARs Audit Procedure for Motor Carriers in Foreign Jurisdictions and Non-Participating States—UCR Audit Subcommittee Chair

For Discussion and Possible Action

The UCR Audit Subcommittee Chair will lead a discussion on the unique issues regarding Focused Anomaly Reviews (FARs) of non-United States based motor carriers and motor carriers based in non-participating states. The Board may take action to adopt new FARs audit procedures to be utilized by participating states for these motor carriers.

G. Discussion of Vehicles Conducting Emergency Operations—UCR Audit Subcommittee Chair

The UCR Audit Subcommittee Chair will discuss exempting electric utility and other businesses operating vehicles interstate only when responding to an emergency or natural disaster from UCR requirements in accordance with 49 CFR part 390.23, unless the states involved in its interstate travel have waived those requirements. The Board may take action to exclude these carriers from Unified Carrier Registration.

H. Update on the Audit Functionality in the National Registration System—Seikosoft

Seikosoft will provide updates on the NRS Audit Module, solicitation campaigns (new entrant, unregistered, non-universe motor carriers, etc.), and other relevant topics for the Board.

Finance Subcommittee—UCR Finance Subcommittee Chair

A. Discussion Regarding the Board To Self-Insure Against the Risk of Directors and Officers Liability Claims—UCR Chief Legal Officer and UCR Depository Manager

For Discussion and Possible Action

The UCR Chief Legal Officer and the UCR Depository Manager will lead a discussion regarding the purpose for Officer and Directors insurance and discuss the cost effectiveness of the option to self-insure rather than procure insurance from the marketplace. The Board may decide to self-insure or obtain insurance from the insurance marketplace.

B. Review UCR Bank Balance Summary Report—UCR Depository Manager

The UCR Depository Manager will review the UCR Bank Balance Summary Report as of November 30, 2020 and answer questions from the Board.

C. Review 2020 Administrative Expenses Through November 30, 2020—UCR Depository Manager

The UCR Depository Manager will present the administrative costs incurred for the period of January 1, 2020 through November 30, 2020, compared to the budget for the same time-period, and discuss all significant variances.

D. Presentation of the Proposed 2021 Administrative Expenses Budget—UCR Depository Manager

For Discussion and Possible Action

The UCR Depository Manager will present the proposed administrative expenses budget for calendar year 2021 to the Board. The Board may consider adopting the budget.

E. Status of 2020 and 2021 Registration Years Fee Collections and Compliance Percentages—UCR Depository Manager

The UCR Depository Manager will provide updates on the results of collections and registration compliance rates for the 2020 and 2021 registration years.

Education and Training Subcommittee—UCR Education and Training Subcommittee Chair

Update on Basic Audit Training Module and Flow Chart/Decision Tree—UCR Education and Training Subcommittee Chair

The UCR Education and Training Subcommittee Chair will provide an update on the development of the Basic Audit Training Module and Flow Chart/Decision Tree.

XII. Contractor Reports—UCR Executive Director

• UCR Executive Director

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the NRS.

• UCR Administrator Report (Kellen)—UCR Operations and Depository Managers

The UCR Administrator will provide its management report covering recent activity for the Depository, Operations, and Communications.

XIII. Public Comment—James Lamb

Mr. Lamb will be allotted five (5) minutes to address the UCR Board.

XIV. Other Business—UCR Board Chair

The UCR Board Chair will call for any business, old or new, from the floor.

XV. Adjournment—UCR Board Chair

The UCR Board Chair will adjourn the meeting.

This agenda will be available no later than 5:00 p.m. Eastern time, December 3, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-27025 Filed 12-4-20; 11:15 am]

BILLING CODE 4910-YL-P